DEPARTMENT OF TRANSPORTATION

Federal Aviation Administration

14 CFR Part 71

[Airspace Docket No. 99-AWA-12]

RIN 2120-AA66

Revision to the Legal Description of the Burlington International Class C Airspace Area; VT

AGENCY: Federal Aviation Administration (FAA), DOT.

ACTION: Final rule.

SUMMARY: This action revises the legal description of the Burlington, VT, Class C airspace area by changing the operating hours to be consistent with the current operational requirements. Specifically, the Class C airspace area will be designated effective during the specific days and hours of operation of the Burlington Tower and Approach Control facility as established in advance by a Notice to Airmen (NOTAM). The effective dates and times thereafter will be continuously published in the Airport/Facility Directory. This action will not change the actual dimensions, configuration, or operating requirements of the Burlington Class C airspace area.

EFFECTIVE DATE: February 24, 2000.

FOR FURTHER INFORMATION CONTACT: Terry Brown, Airspace and Rules Division, ATA-400, Office of Air Traffic Airspace Management, Federal Aviation Administration, 800 Independence Avenue, SW., Washington, DC 20591; telephone: (202) 267-8783.

SUPPLEMENTARY INFORMATION:

Background

The Burlington Airport Traffic Control Tower is reducing its hours of operation. The Burlington Class C airspace area remains an essential safety measure in support of the ongoing airport operation requirements.

On November 15, 1999, the FAA published an NPRM (64 FR 61803) that proposed to revise the legal description of the Burlington, VT, Class C airspace area by changing the operating hours to be consistent with the current operational requirements. Interested parties were invited to participate in this rulemaking proceeding by submitting comments on the proposal to the FAA. No comments objecting to the proposal were received. However, one error was found in the coordinates of the legal description in the notice for the Burlington International Airport, VT. Except for the change in the coordinates, this amendment is the same as that proposed in the notice.

The Rule

This amendment to part 71 of The Federal Aviation Regulations (14 CFR part 71) revises the legal description of the Burlington Class C airspace area located at Burlington, VT. The legal description will use the operating hours for the Class C airspace area which are consistent with the current requirements. The Class C airspace area is designated effective during the specific days and hours of operation of the Burlington facility as established in advance by a NOTAM. This action is a technical amendment to the legal description and will not change the actual dimensions, configuration, or operating requirements of the Burlington Class C airspace area.

The coordinates for this airspace docket are based on North American Datum 83. Class C airspace areas are published in paragraph 4000 of FAA Order 7400.9G, dated September 1, 1999, and effective September 16, 1999, which is incorporated by reference in 14 CFR 71.1. The Class C airspace area listed in this document will be published subsequently in the Order.

The FAA has determined that this regulation only involves an established body of technical regulations for which frequent and routine amendments are necessary to keep them operationally current. Therefore, this Regulation: (1) Is not a “significant regulatory action” under Executive Order 12866; (2) is not a “Significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 4000-Subpart C—Class C Airspace

* * * * *

Burlington International Airport, VT [Revised]

Burlington International Airport, VT

(lat. 44°28′23′ N., long. 73°09′01′ W.)

That airspace extending upward from the surface to and including 4,400 feet MSL within a 5-mile radius of the Burlington International Airport, and that airspace extending upward from 2,200 feet MSL to 4,400 feet MSL within a 10-mile radius of Burlington International Airport from the 360° bearing from the airport clockwise to the 180° bearing from the airport, excluding the airspace within Restricted Area R-6501; and that airspace extending upward from 1,500 feet MSL to 4,400 feet MSL within a 10-mile radius of the airport from the 180° bearing from the airport clockwise to the 360° bearing from the airport. This Class C airspace area is effective during the specific dates and times established in advance by a Notice to Airmen. The effective date and time will thereafter be continuously published in the Airport/Facility Directory.

* * * * *

Issued in Washington, DC on February 3, 2000.
Reginald C. Matthews,
Manager, Airspace and Rules Division.

[FR Doc. 00-3077 Filed 2-9-00; 8:45 am]

BILLING CODE 4910-13-P